DEPARTMENT OF ENERGY

Federal Energy Regulatory Commission

Combined Notice of Filings #1

Take notice that the Commission received the following electric corporate filings:

Docket Numbers: EC19-25-000.

Applicants: Sunwave USA Holdings, Inc., Sunwave Gas & Power New York, Inc.

Description: Application for Authorization Under Section 203 of the Federal Power Act, et al. of Sunwave USA Holdings, Inc., et al.

Filed Date: 11/9/18.

Accession Number: 20181109-5189.

Comments Due: 5 p.m. ET 11/30/18.

Docket Numbers: EC19-26-000.

Applicants: Buckleberry Solar, LLC.

Description: Application for Authorization Under Section 203 of the Federal Power Act, et al. of Buckleberry Solar, LLC.

Filed Date: 11/9/18.

Accession Number: 20181109-5192.

Comments Due: 5 p.m. ET 11/30/18.

Take notice that the Commission received the following exempt wholesale generator filings:

Docket Numbers: EG19-19-000.

Applicants: Marengo Energy Storage.

Description: Notice of Self-Certification of Marengo Energy Storage.

Filed Date: 11/13/18.

Accession Number: 20181113-5048.

Comments Due: 5 p.m. ET 12/4/18.

Take notice that the Commission received the following electric rate filings:

Docket Numbers: ER10-2762-001.

Applicants: Linde Energy Services, Inc.

Description: Notice of Non-Material Change in Status of Linde Energy Services, Inc.

Filed Date: 11/9/18.

Accession Number: 20181109-5180.

Comments Due: 5 p.m. ET 11/30/18.

Docket Numbers: ER10-2906-011; ER10-2908-011; ER10-2910-011; ER11-4393-006; ER11-4669-005; ER11-4670-005; ER12-709-004.

Applicants: Morgan Stanley Capital Group Inc., MS Solar Solutions Corp., Power Contract Financing II, L.L.C., TAQA Gen X LLC, NaturEner Montana Wind Energy, LLC, NaturEner Power Watch, LLC, NaturEner Wind Watch, LLC.

Description: Notice of Change in Status of the Morgan Stanley Public Utilities, et al.

Filed Date: 11/13/18.

Accession Number: 20181113-5212.

Comments Due: 5 p.m. ET 12/4/18.

Docket Numbers: ER11-1858-007.

Applicants: NorthWestern Corporation.

Description: Erratum to June 26, 2018 Triennial Market Power Analysis for the Southwest Power Pool Region of NorthWestern Corporation.

Filed Date: 11/13/18.

Accession Number: 20181113-5182.

Comments Due: 5 p.m. ET 12/4/18.

Docket Numbers: ER18-622-004.

Applicants: Midcontinent Independent System Operator, Inc.

Description: Compliance filing: 2018-11-13 Compliance filing to Order 831 Offer Caps to be effective 12/31/9998.

Filed Date: 11/13/18.

Accession Number: 20181113-5037.

Comments Due: 5 p.m. ET 12/4/18.

Docket Numbers: ER18-2140-000.

Applicants: Persimmon Creek Wind Farm 1, LLC.

Description: Report Filing: Refund Report Filing to be effective N/A.

Filed Date: 11/13/18.

Accession Number: 20181113-5187.

Comments Due: 5 p.m. ET 12/4/18.

Docket Numbers: ER19-328-000.

Applicants: Midcontinent Independent System Operator, Inc.

Description: § 205(d) Rate Filing: 2018-11-13_Operating Reserve Demand Curve revisions related to Order 831 to be effective 12/31/9998.

Filed Date: 11/13/18.

Accession Number: 20181113-5046.

Comments Due: 5 p.m. ET 12/4/18.

Docket Numbers: ER19-329-000.

Applicants: AEP Texas Inc.

Description: § 205(d) Rate Filing: AEPTX-Shakes Solar Interconnection Agreement to be effective 10/26/2018.

Filed Date: 11/13/18.

Accession Number: 20181113-5207.

Comments Due: 5 p.m. ET 12/4/18.

Docket Numbers: ER19-330-000.

Applicants: AEP Texas Inc.

Description: § 205(d) Rate Filing: AEPTX-Taygete Energy Project Interconnection Agreement to be effective 10/26/2018.

Filed Date: 11/13/18.

Accession Number: 20181113-5210.

Comments Due: 5 p.m. ET 12/4/18.

Docket Numbers: ER19-331-000.

Applicants: San Diego Gas & Electric Company.

Description: § 205(d) Rate Filing: SDGE JVR Energy Park Service Agreement 58 Vol. 11 E&P Agreement to be effective 11/14/2018.

Filed Date: 11/13/18.

Accession Number: 20181113-5230.

Comments Due: 5 p.m. ET 12/4/18.

Docket Numbers: ER19-332-000.

Applicants: El Segundo Power, LLC.

Description: Tariff Cancellation: Notice of Cancellation to be effective 11/14/2018.

Filed Date: 11/13/18.

Accession Number: 20181113-5276.

Comments Due: 5 p.m. ET 12/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2018.
Nathaniel J. Davis, Sr.,
Deputy Secretary.

[FR Doc. 2018-25135 Filed 11-16-18; 8:45 am]

BILLING CODE 6717-01-P